DEPARTMENT OF HEALTH AND HUMAN SERVICES

Administration for Community Living

Announcing the Intent To Award a Single-Source Supplement for the Eldercare Locator

AGENCY: Administration Community Living, HHS.

ACTION: Notice.

SUMMARY: The Administration for Community Living (ACL) announces its intent to award a single-source supplement to the current cooperative agreement held by USAging for the Eldercare Locator. The purpose of this funding is to continue operation of the Disability Information and Access Line (DIAL). Originally funded in FY 2021 to connect people with disabilities to information about COVID-19 and assistance with accessing the COVID-19 vaccine, DIAL has become a critical resource for people with disabilities to get information and connect to state and local organization able to provide assistance serving over 100,000 since launching in June, 2021.

FOR FURTHER INFORMATION CONTACT: For further information or comments regarding this program supplement, contact Erica McFadden, U.S. Department of Health and Human Services, Administration for Community Living, Office of Independent Living Programs, email erica.mcfadden@acl.hhs.gov or phone (202) 795-7446; or Bernice Hutchinson, U.S. Department of Health and Human Services, Administration for Community Living, Administration on Aging, phone (202) 795-7313, email Bernice.hutchinson@acl.hhs.gov.

SUPPLEMENTARY INFORMATION:

Program Name: The Eldercare Locator.

Recipient: USAging.

Period of Performance: Supplemental funds will be added to the current project year's Notice of Award (NOA) to operate DIAL from October 1, 2024 through September 30, 2025.

Total Award Amount: $1 million in FY 2024.

Award Type: Cooperative Agreement Supplement.

Statutory Authority: This program is authorized under 42 U.S.C. 15081 and 29 U.S.C. 796.

Basis for Award: USAging is currently funded to carry out the objectives of this program, entitled The Eldercare Locator. Older adults and their caregivers and people with disabilities face a complicated array of decisions regarding home and community-based services. For almost 30 years, the Eldercare Locator has helped older adults and their families navigate this complex environment by connecting those needing assistance with State and local agencies on aging that serve older adults and their caregivers.

The Eldercare Locator serves approximately 450,000 people a year through the call center. To ensure that the needs of those who contact the Eldercare Locator are carefully matched with the appropriate resources, information specialists are trained to listen closely to callers, identify relevant local, state and/or national resources and, when needed, provide a transfer to a particular resource.

As a trusted national resource, the supplement to the Eldercare Locator will be used to expand the capacity of the service to link a larger number of people with disabilities, including older adults and their family caregivers needing services from local organizations that can assist.

With the supplemental funding, ACL will fund the maintenance of the DIAL call center to support at least of 40,000 calls from people with disabilities and their caregivers. In addition, DIAL will utilize, maintain, and update a list of trusted resources to assist callers in making appropriate local connections. Having to sift through countless websites and make multiple phone calls to gain education and access to important community resources is a significant issue for people with disabilities.

Having an established one-stop call center to provide accurate and up-to-date state and local specific information and referrals on important information regarding local community resources for people with disabilities is critically needed. Using the established DIAL and Eldercare Locator infrastructure, this supplement will be used for maintaining and providing technical assistance about DIAL to assist people with disabilities to make appropriate state and local linkages to resources. The grantee, working with appropriate national disability organizations, will maintain a call center with a dedicated line and trained information specialists to serve approximately 40,000 people with disabilities.

Dated: August 20, 2024.
Alison Barkoff,
Principal Deputy Administrator, for the Administration for Community Living, performing the duties of the Administrator and Assistant Secretary for Aging.

[FR Doc. 2024-19070 Filed 8-23-24; 8:45 am]

BILLING CODE 4154-01-P